DEPARTMENT OF HEALTH AND HUMAN SERVICES

National Institutes of Health

National Institute of Allergy and Infectious Diseases Town Hall Meeting on the Future of the Regional Centers of Excellence for Biodefense and Emerging Infectious Diseases (RCE) Program; Notice of Meeting

Notice is hereby given that the National Institute of Allergy and Infectious Diseases (NIAID), a component of the National Institutes of Health (NIH) of the Department of Health and Human Services (DHHS), will convene a public information session (Town Hall meeting) and Webinar on November 1, 2011 in Bethesda, MD at 9 a.m. Eastern Time to discuss future plans for the NIAID Regional Centers of Excellence for Biodefense and Emerging Infectious Diseases (RCE) Program (http://www.niaid.nih.gov/LabsAndResources/resources/rce/). NIAID program staff will describe current RCE research activities and accomplishments, outline preliminary plans for the evolution of the Program, and gather feedback from the research community regarding future directions.

The meeting will be held at the Doubletree Hotel, 8120 Wisconsin Avenue, Bethesda, MD. Interested parties may attend in person (seating capacity is limited to 150) or participate through Webinar access. Please visit the following Web site for meeting information and registration: https://respond.niaid.nih.gov/conferences/rce2011/Pages/default.aspx.

Please send Inquiries to: Dr. Rona Hirschberg, rhirschberg@niaid.nih.gov.

Dated: September 14, 2011.
Michael G. Kurilla,
Director, Office of BioDefense Research Affairs, Associate Director for BioDefense Product Development, DMID, NIAID, National Institutes of Health.

[FR Doc. 2011-24217 Filed 9-20-11; 8:45 am]

BILLING CODE 4140-01-P